DEPARTMENT OF DEFENSE

Department of the Army

[Docket ID: USA-2020-HQ-0017]

Proposed Collection; Comment Request

AGENCY: Department of the Army, Department of Defense (DoD).

ACTION: Information collection notice.

SUMMARY: In compliance with the Paperwork Reduction Act of 1995, the Department of the Army announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by February 16, 2021.

ADDRESSES: You may submit comments, identified by docket number and title, by any of the following methods:

Federal eRulemaking Portal: http://www.regulations.gov. Follow the instructions for submitting comments.

Mail: DoD cannot receive written comments at this time due to the COVID-19 pandemic. Comments should be sent electronically to the docket listed above.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to 1530 Concordia West, Irvine, CA 92612, ATTN: Dr. Nathan Meier, 949-214-3322.

SUPPLEMENTARY INFORMATION: Title; Associated Form; and OMB Number: Future Soldier Study (At-Risk Shippers); OMB Control Number 0702-XXXX.

Needs and Uses: This collection will help study the impact that regular exercise has on Future Soldiers (FS) accessions rates and shape the development of policy that will reduce the number of shipper delays and FS losses due to height, weight, and OPAT standards not being met, ultimately saving the Army time and money. FS will receive an at-home exercise program that they can execute with minimal equipment and experience, and conclude with an exercise adherence structured interview from the Company Commanders during their FS Asset Inventory (FSAI), a regular part of the FS program already. Body composition and OPAT data that the recruiters currently collect on the FS populations will then be cross-referenced with the exercise adherence data. This will allow us to identify to what degree exercise adherence leads to the improved shipping rates for FS as well as potential weight loss guidance for MEPS and Recruiting Command to use to more accurately predict the duration of time required from initial MEPS clearance to ship date based on a FS height, weight, and OPAT status. This data must be collected in order to accurately determine the impact that regular exercise has on FS accessions rates and provide MEPS and USAREC with demographic-specific projections for their at-risk populations to ship for basic training. The end result will be a study that will be presented to USAREC and MEPS Command with findings and recommendations for ways to reduce FS delays to the shipping process.

Affected Public: Individuals or Households.

Annual Burden Hours: 9,450.

Number of Respondents: 450.

Responses per Respondent: 1.

Annual Responses: 450.

Average Burden per Response: 21 hours.

Frequency: One-time.

Dated: December 11, 2020.
Aaron T. Siegel,
Alternate OSD Federal Register Liaison Officer, Department of Defense.

[FR Doc. 2020-27664 Filed 12-15-20; 8:45 am]

BILLING CODE 5001-06-P